DEPARTMENT OF ENERGY

Federal Energy Regulatory Commission

[Docket No. CP07-436-000]

Williston Basin Interstate Pipeline Company; Notice of Application

August 15, 2007.

Take notice that on August 13, 2007, Williston Basin Interstate Pipeline Company (Williston Basin), P.O. Box 5601, Bismarck, North Dakota 58506-5601, filed in Docket No. CP07-436-000 an application pursuant to section 7(b) of the Natural Gas Act (NGA) for permission and approval to abandon sections of mainline natural gas pipeline facilities, located in Dawson County, Montana, all as more fully set forth in the application.

The application is on file with the Commission and open for public inspection. This filing is available for review at the Commission in the Public Reference Room or may be viewed on the Commission's Web site at http://www.ferc.gov using the “eLibrary” link. Enter the docket number excluding the last three digits in the docket number field to access the document. For assistance, please contact FERC Online Support at FERCOnlineSupport@ferc.gov and follow the instructions or toll-free at (866) 208-3676, or for TTY, contact (202) 502-8659.

Any questions concerning this request may be directed to Keith A. Tiggelaar, Director of Regulatory Affairs for Williston Basin, 1250 West Century Avenue, Bismarck, North Dakota 58503, or call (701) 530-1560, or e-mail keith.tiggelaar@wbip.com.

Williston Basin proposes to abandon certain segments of two different vintage pipeline river crossings of the Yellowstone River located in Dawson County, Montana. The first vintage pipeline to be abandoned, it is said, consists of approximately 1,390 feet of 8-inch pipeline, the majority of which hangs from the Burlington Northern Santa Fe (BNSF) railroad bridge.

It is stated, that on May 13, 1998, Williston Basin filed for, and received, authorization in Docket No. CP98-544-000 to construct a new 16-inch river crossing and to disconnect an 8-inch river crossing hanging on the BNSF railroad bridge. Williston Basin points out that this 8-inch pipeline has not been used since it was disconnected in 1998. Thus, Williston Basin contends that no customers would be affected by the abandonment of this facility. Williston Basin proposes to remove approximately 60 feet of this 8-inch pipeline which lies underground (40 feet on the north side of the river and 20 feet on the south side of the river), with the remainder (approximately 1,330 feet) of this pipeline to be abandoned in place and to remain on the BNSF railroad bridge.

The second vintage pipeline, Williston Basin states it proposes to remove, would be approximately 410 feet of 16-inch pipeline from the north side of the Yellowstone River and approximately 300 feet of 16-inch pipeline from the south side of the Yellowstone River. Williston Basin maintains that these segments of pipeline, abandoned in place in 1999, lie in close proximity to the active 16-inch line constructed in 1998. Williston Basin concludes that removing these segments of 16-inch pipeline would ensure that they are not exposed by any future Yellowstone River bank erosion.

Williston Basin avers that the sections of pipeline proposed to be abandoned are neither strategic nor integral to Williston Basin's primary business of transporting natural gas in interstate commerce. Additionally, Williston Basin states that these facilities currently are not needed and are not being used to perform Williston Basin's service obligations.

Pursuant to Section 157.9 of the Commission's rules, 18 CFR 157.9, within 90 days of this Notice the Commission staff will either: Complete its environmental assessment (EA) and place it into the Commission's public record (eLibrary) for this proceeding, or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

There are two ways to become involved in the Commission's review of this project. First, any person wishing to obtain legal status by becoming a party to the proceedings for this project should, on or before the comment date stated below file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

The Commission strongly encourages electronic filings of comments, protests and interventions via the Internet in lieu of paper. See, 18 CFR 385.2001(a)(1)(iii) and the instructions on the Commission's Web site http://www.ferc.gov under the “e-Filing” link.

Comment Date: September 5, 2007.

Kimberly D. Bose,
Secretary.

[FR Doc. E7-16499 Filed 8-21-07; 8:45 am]

BILLING CODE 6717-01-P